DEPARTMENT OF DEFENSE

Office of the Secretary

[Docket ID: DoD-2024-OS-0007]

Proposed Collection; Comment Request

AGENCY: Office of the Under Secretary of Defense for Personnel and Readiness (OUSD(P&R)), Department of Defense (DoD).

ACTION: 60-Day information collection notice.

SUMMARY: In compliance with the Paperwork Reduction Act of 1995, the Deputy Assistant Secretary of Defense (Force Education & Training) announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by March 18, 2024.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Boris Kun, OASD Readiness (Force Education & Training), 4000 Defense Pentagon Room 1E537, Washington DC 20301-4000. Borris Kun, (619) 908-9581.

SUPPLEMENTARY INFORMATION:

Title; Associated Form; and OMB Number: Climate Literacy Pulse Check; OMB Control Number: 0704-CLPC.

Needs and Uses: Climate change is one of many threat multipliers to National Security, which adds complexity to the decisions made by the DoD. It is a priority of the DoD to ensure that support to the department's missions takes climate considerations into account, especially how the adverse impacts of a changing climate can complicate and impede DoD missions. This pulse check is intended for DoD personnel who provide various aspects of support to the warfighter—whether in OSD, Defense Agencies, the Joint Staff, combatant commands, and the Services—to understand how climate change affects their work and what education, training, and resources they require to continue executing their mission in the context of a changing climate.

Affected Public: Individuals or households.

Annual Burden Hours: 1,417.

Number of Respondents: 8,500.

Responses per Respondent: 1.

Annual Responses: 8,500.

Average Burden per Response: 10 minutes.

Frequency: Annually.

Dated: January 10, 2024.
Aaron T. Siegel,
Alternate OSD Federal Register Liaison Officer, Department of Defense.

[FR Doc. 2024-00905 Filed 1-17-24; 8:45 am]

BILLING CODE 6001-FR-P